DEPARTMENT OF THE INTERIOR

Fish and Wildlife Service

Proposed Joint Programmatic Candidate Conservation Agreement with Assurances and Safe Harbor Agreement for Select Species in the Upper Little Red River Watershed, Arkansas

AGENCY: Fish and Wildlife Service, Department of the Interior.

ACTION: Notice.

SUMMARY: This notice advises the public that the Fish and Wildlife Service's Arkansas Ecological Service Field Office (ARFO), Arkansas Game and Fish Commission (AGFC), Natural Resources Conservation Service (NRCS), and The Nature Conservancy (TNC), have applied to the Fish and Wildlife Service (we or Service) for an enhancement of survival permit (permit) pursuant to section 10(a)(1)(A) of the Endangered Species Act of 1973, as amended (Act). The permit application includes a proposal that combines a Candidate Conservation Agreement with Assurances (CCAA) for the candidate yellowcheek darter (Etheostoma moorei; YCD) with a Safe Harbor Agreement (SHA) for the federally endangered speckled pocketbook (Lampsilis streckeri; SPB)—jointly referred to as the “Agreement.” The term of the Agreement will be 30 years. If approved, the Agreement would allow the Applicants to issue Certificates of Inclusion (CI) throughout the upper Little Red River Watershed in Arkansas to eligible non-Federal landowners that complete an approved Property Owner Management Agreement (POMA).

We announce the opening of a 30-day comment period and request comments from the public on the Applicant's permit application, the accompanying proposed Agreement, and the supporting National Environmental Policy Act (NEPA) documentation.

DATES: Written comments should be received on or before October 10, 2006.

ADDRESSES: You may obtain a copy of the information available by contacting the Field Supervisor, Fish and Wildlife Service, Arkansas Ecological Services Field Office, 1500 Museum Road, Suite 105, Conway, Arkansas 72032. Alternatively, you may set up an appointment to view these documents during normal business hours. Written data or comments should be submitted to the Service's Regional Safe Harbor Coordinator, Fish and Wildlife Service, 1875 Century Boulevard, Suite 200, Atlanta, Georgia 30345. Note that requests for any documents must be in writing to be processed. When you are requesting or reviewing the information provided in this notice, please reference “Programmatic CCAA and SHA in the Upper Little Red River” in any correspondence.

FOR FURTHER INFORMATION CONTACT: Mr. Chris Davidson, Fish and Wildlife Biologist, Arkansas Ecological Services Field Office (see ADDRESSES above), telephone (501) 513-4481; or Mr. Rick Gooch, Regional Safe Harbor Program Coordinator, Regional Office (see ADDRESSES above), telephone (404) 679-7124.

SUPPLEMENTARY INFORMATION: Under a CCAA, participating property owners voluntarily undertake management activities on their property to enhance, restore, or maintain habitat benefiting candidate species for listing under the Act. CCAAs encourage private and other non-Federal property owners to implement conservation efforts for candidate species by assuring property owners they will not be subjected to increased property use restrictions should the species become listed as threatened or endangered under the Act. Under a SHA, participating property owners voluntarily undertake management activities on their property to enhance, restore, or maintain habitat benefiting federally listed species under the Act. SHAs encourage private and other non-Federal property owners to implement conservation efforts for federally listed species by assuring property owners they will not be subjected to increased property use restrictions under the Act. Application requirements and issuance criteria for SHAs and CCAAs are found in 50 CFR 17.22(d) and 50 CFR 17.32(d), respectively. Because of the significant overlap between the two covered species' habitat requirements and the anticipated beneficial effects from implementation of the voluntary conservation measures on both species, we believe that it is appropriate to combine the CCAA/SHA elements in a single Agreement for consideration in this notice.

The ARFO, AFGC, NRCS, and TNC's proposed watershed wide joint Agreement is designed to encourage voluntary habitat restoration and/or enhancement actions to benefit either or both of the covered species. The geographic scope of the Agreement is approximately 558,615 acres of the upper Little Red River watershed in north central Arkansas. Lands potentially eligible for inclusion include all privately owned lands, State lands, and public lands owned by cities, counties, and municipalities, with potentially suitable habitat for the covered species in the upper Little Red River watershed. Simultaneous to implementation of voluntary management actions through the individual landowner agreements (the POMA), the Agreement will provide specific regulatory assurances.

Under the Agreement's CCAA program element (covering the YCD), the landowner will not have any responsibility under the Act beyond that which exists at the time he or she enters into the program, even if the YCD becomes federally listed. The POMA will identify any existing YCD habitat and will describe the actions that the landowner commits to take (e.g., riparian revegetation, livestock fencing, etc.) or will allow to be taken to improve YCD habitat on the property, and the time period within which those actions are to be taken and maintained. When combined with actions of other landowners throughout the watershed, conservation actions taken by a specific landowner should preclude the need to list the YCD as threatened or endangered under the Act.

Under the Agreement's SHA element (covering the SPB), each POMA will identify any existing SPB habitat on the landowner's property and will describe the actions that the landowner commits to take (e.g., riparian revegetation, livestock fencing, etc.) or will allow to be taken to improve SPB habitat on the property, and the time period within which those actions are to be taken and maintained. Under the POMA, the landowner will have the option of returning the enrolled lands to baseline conditions, even if such actions will result in the incidental taking of SPB.

The proposed Agreement is being evaluated for Categorical Exclusion from the NEPA process. As a result, no other alternatives have been evaluated to implement conservation efforts for either the YCD or SPB at this time. Entering into a POMA is strictly voluntary for landowners. We do not foresee any detrimental effects to the human environment resulting from approval and implementation of this application and Agreement. We believe that the net effect of the Agreement will be to increase the amount of habitat available for the two covered species and improve overall water quality conditions throughout the watershed. It is therefore likely that the Agreement will meet the requirements to be categorically excluded from the NEPA process.

We provide this notice pursuant to section 10(c) of the Endangered Species Act and pursuant to implementing regulations for the National Environmental Policy Act (40 CFR 1506.6). We will evaluate the proposed Agreement, associated documents, and comments submitted thereon to determine whether the requirements of section 10(a) of the Act and NEPA regulations have been met. If we determine that the requirements are met, we will issue a permit under section 10(a)(1)(A) of the Act to the Applicants in accordance with the applicable regulatory requirements. We will not make our final decision until after the end of the 30-day comment period and will fully consider all comments received during the comment period.

Dated: August 30, 2006.
Ed Buskirk,
Acting Regional Director, Southeast Region.

[FR Doc. E6-14867 Filed 9-7-06; 8:45 am]

BILLING CODE 4310-55-P